DEPARTMENT OF THE INTERIOR

National Park Service

[NPS-PWR-MIIN-11234; 9360-726]

Minor Boundary Revision at Minidoka National Historic Site

AGENCY: National Park Service, Interior.

ACTION: Notification of boundary revision.

SUMMARY: Notice is hereby given that, pursuant to 16 U.S.C. 460l-9(c)(1)(ii), the boundary of Minidoka National Historic Site is modified to include 88.51 acres of land identified as Tract 01-107, tax parcels numbered RP08S19E2300A and RP08S19E329001A. A conservation easement interest in the land will be donated to the United States. The land is located in Jerome County, Idaho, immediately adjacent to the current western boundary of Minidoka National Historic Site. The boundary revision is depicted on Map No. 194/114484 dated May 2012. The map is available for inspection at the following locations: National Park Service, Columbia Cascades Land Resources Program Center, 168 South Jackson Street, Seattle, Washington 98104, and National Park Service, Department of the Interior, Washington, DC 20240.

FOR FURTHER INFORMATION CONTACT: National Park Service, Chief, Columbia Cascades Land Resources Program Center, 168 South Jackson Street, Seattle, Washington 98104, telephone (206) 220-4100.

DATES: The effective date of this boundary revision is October 31, 2012.

SUPPLEMENTARY INFORMATION: 16 U.S.C. 460l-9(c)(1)(ii) provides that, after notifying the House Committee on Natural Resources and the Senate Committee on Energy and Natural Resources, the Secretary of the Interior is authorized to make this boundary revision upon publication of notice in the Federal Register. The Committees have been notified of this boundary revision. The inclusion and acquisition of a conservation easement interest in this property will enable the National Park Service to preserve the open space and viewsheds of the general area and thereby more accurately interpret the events that took place during the Japanese-American internment here from 1942 to 1945.

Dated: September 25, 2012.
Patricia L. Neubacher,
Acting Regional Director, Pacific West Region.

[FR Doc. 2012-26810 Filed 10-30-12; 8:45 am]

BILLING CODE 4312-DC-P